ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC from Tuesday through Wednesday, January 10-11, 2006, at the times and location noted below.

DATES: The schedule of events is as follows:

Tuesday, January 10, 2006

9-11 a.m. Planning and Budget Committee.

11-Noon Technical Programs Committee.

1:30-3:30 p.m. Executive Committee.

3:30-5 Committee of the Whole on Rulemaking Plan (Closed Session).

Wednesday, January 11, 2006

9 a.m.-Noon Ad Hoc Committee on Passenger Vessels (Closed Session).

1:30-3 p.m. Board Meeting.

ADDRESSES: All meetings will be held at the Marriott at Metro Center Hotel, 775 12th Street, NW., Washington, DC 20005.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

• Approval of the November 9, 2005 Board Meeting Minutes

• Committee of the Whole on Rulemaking Report

• Ad Hoc Committee on Passenger Vessels Report

• Technical Programs Committee Report

• Planning and Budget Committee Report

• Executive Committee Report

All meetings are accessible to persons with disabilities. An assistive listening system will be available at the Board meetings. Members of the general public who require sign language interpreters must contact the Access Board by Tuesday, January 3, 2006. Persons attending Board meetings are requested to refrain from using perfume, cologne, and other fragrances for the comfort of other participants.

Lawrence W. Roffee,
Executive Director.

[FR Doc. E5-7577 Filed 12-20-05; 8:45 am]

BILLING CODE 8150-01-P